DEPARTMENT OF AGRICULTURE

Food and Nutrition Service

Agency Information Collection Activities: Proposed Collection; Comment Request; Food Stamp Program Regulations, Part 275—Quality Control

AGENCY: Food and Nutrition Service, USDA.

ACTION: Notice.

SUMMARY: In accordance with the Paperwork Reduction Act of 1995, this notice invites the general public and other public agencies to comment on a proposed information collection. This notice is an extension of the currently approved information collection burden for the Quality Control (QC) system which includes the sampling plan and the arbitration and good cause processes. The reporting and recordkeeping burdens associated with the Food Stamp Program QC System are approved through August 31, 2004, under OMB No. 0584-0303. Part 275 of the Food Stamp Program regulations on QC requires these burdens.

DATES: Written comments must be submitted on or before May 10, 2004.

ADDRESSES: Send comments and requests for copies of this information collection to: Daniel Wilusz, Chief, Quality Control Branch, Program Accountability Division, Food and Nutrition Service, U.S. Department of Agriculture, 3101 Park Center Drive, Alexandria, VA 22302. You may FAX comments to us at (703) 305-0928 or e-mail at Daniel.Wilusz@fns.usda.gov. You may also download an electronic version of this notice at http://www.fns.usda.gov/fsp/ and comment via the Internet at the same address. If you do not receive a confirmation from the system that we have received your message, contact us directly at (703) 305-2460.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Requests for additional information or copies of the information collection should be directed to Daniel Wilusz, (703) 305-2460 or e-mail at Daniel.Wilusz@fns.usda.gov.

SUPPLEMENTARY INFORMATION: Title: Food Stamp Program Regulations, Part 275—Quality Control.

OMB Number: 0584-0303.

Expiration Date: August 31, 2004.

Type of Request: Extension of a currently approved collection of information.

Abstract: There are three components of the QC system that are covered in this proposed information collection. They are: (1) The sampling plan and (2) the arbitration and (3) good cause processes. Each State is required to develop a sampling plan which demonstrates the integrity of its case selection procedures. The QC system is designed to measure each State agency's payment error rate based on a statistically valid sample of food stamp cases. A State's payment error rate represents the proportion of cases that were reported through a QC review as being ineligible, overissued and underissued food stamp benefits. The QC system contains procedures for resolving differences in review findings between State agencies and FNS. This is referred to as the arbitration process. The QC system also contains procedures which provide relief for State agencies from all or a part of a QC liability when a State agency can demonstrate that a part or all of an excessive error rate was due to an unusual event which had an uncontrollable impact on the State agency's payment error rate. This is referred to as the good cause process.

The approved burden for the QC system includes the burden for the QC sampling plan and the arbitration and good cause processes. The annual reporting burden associated with the QC sampling plan is 265 hours per year. There was a minor increase in the burden due to an increase in the number of responses associated with the good cause process. The annual reporting burdens associated with arbitration and good cause processes are estimated to total 1643 and 8480 respectively. The reporting burden for good cause increased from 1917 to 8480 hours. This is a result of a re-determination in the number of responses from 0.226 to 1 per year. The annual recordkeeping burden associated with the QC sampling plan is 1.25 hours per year. The annual recordkeeping burdens associated with arbitration and good cause processes are estimated to total 3.89 and 1.25 respectively. The recordkeeping burden for good cause increased from .28 to 1.25 hours due a re-determination in the number of records from .226 to 1 per year. The total annual burden for the QC system, as proposed by this notice, increased from 3830 to 10,394 hours.

Quality Control System Reporting Burden Associated With the Sampling Plan, Arbitration, and Good Cause

1. Sampling Plan

Affected Public: State agencies.

Estimated Number of Respondents: 53.

Estimated Number of Responses Per Respondent: 1.

Estimated Time Per Response: 5 hours.

Estimated Total Annual Burden Hours: 265.

2. Arbitration Process

Affected Public: State agencies.

Estimated Number of Respondents: 53.

Estimated Number of Responses Per Respondent: 3.1.

Estimated Time Per Response: 10 hours.

Estimated Total Annual Burden Hours: 1643.

3. Good Cause Process

Affected Public: State agencies.

Estimated Number of Respondents: 53.

Estimated Number of Responses: 1.

Estimated Time Per Response: 160 hours.

Estimated Total Annual Burden Hours: 8480.

Quality Control System Recordkeeping Burden Associated With the Sampling Plan, Arbitration, and Good Cause

1. Sampling Plan

Estimated Number of Recordkeepers: 53.

Estimated Number of Records Per Respondent: 1.

Estimated Staff Hours Per Recordkeeping: .0236.

Estimated Total Annual Burden Hours: 1.25.

2. Arbitration Process

Estimated Number of Recordkeepers: 53.

Estimated Number of Records Per Respondent: 3.1.

Estimated Staff Hours Per Recordkeeping: .0236.

Estimated Total Annual Burden Hours: 3.89.

3. Good Cause Process

Estimated Number of Recordkeepers: 53.

Estimated Number of Records: 1.

Estimated Staff Hours Per Recordkeeping: .0236.

Estimated Total Annual Burden Hours: 1.25.

The Combined Quality Control System Burden (includes the burdens associated with the Sampling Plan, Arbitration and Good Cause): 10,394 hours.

Dated: March 1, 2004.
Roberto Salazar,
Administrator, Food and Nutrition Service.

[FR Doc. 04-5199 Filed 3-8-04; 8:45 am]

BILLING CODE 3410-30-P